DEPARTMENT OF HEALTH AND HUMAN SERVICES

Centers for Disease Control and Prevention

[Program Announcement 00144]

Environmental Signals and Sensors: A Virtual Center for Disease Prevention in Humans and Ecosystems; Notice of Availability of Funds

A. Purpose

The Centers for Disease Control and Prevention (CDC) announces the availability of fiscal year (FY) 2000 funds for a grant program to study the underlying biochemical and genetic mechanisms by which environmental chemicals affect human health and signal the onset of disease.

B. Eligible Applicant

Single Source

Assistance will be provided only to the University of Mississippi Medical Center. No other applications are solicited.

The University of Mississippi Medical Center (UMMC) is the most appropriate organization to conduct the work under this grant program for the following reasons:

1. The University of Mississippi and Tulane University have established a center for environmental medicine and toxicology at the University of Mississippi Medical Center in Jackson, Mississippi. [The Consolidated Appropriations Act, 2000, (Public Law 106-113) provided financial support which “shall be for the Center for Environmental Medicine and Toxicology at the University of Mississippi Medical Center at Jackson.”]

2. The UMMC has taken a leadership role in forming a consortium with the University of Mississippi at Oxford and the Center for Bioenvironmental Research (CBR) at Tulane and Xavier Universities to assemble scientific teams to address environmental issues. Active collaborations between investigators at the participating institutions are in place to perform the required activities of this program. UMMC is strategically located between the Tulane and Xavier Universities, and is the only university which focuses solely on biomedical research in the State of Mississippi. Ten investigators from the University of Mississippi Medical Center, six from the University of Mississippi at Oxford and seventeen from the Center for Bioenvironmental Research form the core of the consortium. Four clusters of investigators have been assembled to work jointly on important subsets of environmental research. Each cluster is co-chaired by investigators from two of the four participating institutions.

3. UMMC has formed a consortium with two other universities to conduct environmental research. Thus, UMMC may readily disseminate health and environmental data between participating partners which will be essential to completion of this project.

C. Availability of Funds

Approximately $2,634,547 is available in FY 2000 to fund this award. It is expected that the award will begin on or about September 30, 2000, and will be made for a 12-month budget period within a project period of up to five years. Funding estimates may change.

D. Where To Obtain Additional Information

If you have questions after reviewing the contents of all the documents, business management technical assistance may be obtained from: William Paradies, Grants Management Specialist, Grants Management Branch, Procurement and Grants Office, Centers for Disease Control and Prevention, Room 3000, 2920 Brandywine Road, Atlanta, GA 30341-4146. Telephone number: (770) 488-2721; E-mail address: WEP2@cdc.gov.

For program technical assistance, contact: Lawrence E. Posey, Acting Deputy Director, Division of Environmental Hazards and Health Effects, 1600 Clifton Road, NE, M/S E-19, Atlanta, GA 30333. Telephone number: (404) 639-7274; E-mail address: LEP1@cdc.gov.

Dated: July 27, 2000.
John L. Williams,
Director, Procurement and Grants Office, Centers for Disease Control and Prevention (CDC).

[FR Doc. 00-19466 Filed 8-1-00; 8:45 am]

BILLING CODE 4163-18-P